DEPARTMENT OF TRANSPORTATION

Federal Aviation Administration

14 CFR Part 39

[Docket No. 2002-NM-212-AD; Amendment 39-13571; AD 2004-08-02]

RIN 2120-AA64

Airworthiness Directives; McDonnell Douglas Model 717-200 Airplanes

AGENCY: Federal Aviation Administration, DOT.

ACTION: Final rule.

SUMMARY: This amendment adopts a new airworthiness directive (AD), applicable to certain McDonnell Douglas Model 717-200 airplanes, that requires a general visual inspection to detect corrosion of the left- and right-hand horizontal stabilizer hinge fitting bolts, barrel nuts, and the associated holes in the horizontal stabilizer structure, and to detect corrosion of the left- and right-hand elevator sector pinch bolts and associated holes, as applicable; and corrective actions, if necessary. This action is necessary to detect and correct corrosion of the left- and right-hand horizontal stabilizer hinge fitting bolts, barrel nuts, and associated holes in the horizontal stabilizer structure, and the left- and right-hand elevator sector pinch bolts and associated holes, which could lead to loss of a hinge fitting and reduced structural integrity of the horizontal stabilizer. This action is intended to address the identified unsafe condition.

DATES: Effective May 19, 2004.

The incorporation by reference of certain publications listed in the regulations is approved by the Director of the Federal Register as of May 19, 2004.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Maureen Moreland, Aerospace Engineer, Airframe Branch, ANM-120L, FAA, Los Angeles Aircraft Certification Office, 3960 Paramount Boulevard, Lakewood, California 90712-4137; telephone (562) 627-5238; fax (562) 627-5210.

SUPPLEMENTARY INFORMATION: A proposal to amend part 39 of the Federal Aviation Regulations (14 CFR part 39) to include an airworthiness directive (AD) that is applicable to certain McDonnell Douglas Model 717-200 airplanes was published in the Federal Register on November 26, 2003 (68 FR 66382). That action proposed to require a general visual inspection to detect corrosion of the left- and right-hand horizontal stabilizer hinge fitting bolts, barrel nuts, and the associated holes in the horizontal stabilizer structure, and to detect corrosion of the left- and right-hand elevator sector pinch bolts and associated holes, as applicable; and corrective actions, if necessary.

Comments

Interested persons have been afforded an opportunity to participate in the making of this amendment. No comments were submitted in response to the proposal or the FAA's determination of the cost to the public.

Conclusion

The FAA has determined that air safety and the public interest require the adoption of the rule as proposed.

Cost Impact

There are approximately 84 airplanes of the affected design in the worldwide fleet. The FAA estimates that 67 airplanes of U.S. registry will be affected by this AD. The work hours vary according to the configuration group to which the affected airplane belongs.

The following table shows the estimated cost impact for airplanes affected by this AD:

Table—Cost Impact
Airplane configuration group | Work hours per airplane (estimated) | Labor rate per work hour | Cost per airplane (estimated)
1 | 61 | $65 | $3,965
2 | 57 | 65 | 3,705

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-08-02 McDonnell Douglas: Amendment 39-13571. Docket 2002-NM-212-AD.

Applicability: Model 717-200 airplanes, as listed in Boeing Service Bulletin 717-55-0003, dated June 18, 2002; certificated in any category.

Compliance: Required as indicated, unless accomplished previously.

To detect and correct corrosion of the left- and right-hand horizontal stabilizer hinge fitting bolts, barrel nuts, and associated holes in the horizontal stabilizer structure, and the left- and right-hand elevator sector pinch bolts and associated holes, which could lead to loss of a hinge fitting and reduced structural integrity of the horizontal stabilizer; accomplish the following:

Service Bulletin References

(a) The term “service bulletin,” as used in this AD, means the Accomplishment Instructions of Boeing Service Bulletin 717-55-0003, dated June 18, 2002.

Initial Inspection

(b) Prior to the accumulation of 18,000 total flight cycles, or within 15 months after the effective date of this AD, whichever is later: Perform the general visual inspections specified in paragraphs (c) and (d) of this AD, as applicable, in accordance with the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Horizontal Stabilizer Hinge Fitting Bolt Inspection

(c) For Group 1 and Group 2 airplanes identified in paragraph 1.A.1. of the service bulletin: Perform a general visual inspection of the left- and right-hand horizontal stabilizer hinge fitting bolts, barrel nuts, and the associated holes in the horizontal stabilizer for corrosion in accordance with the service bulletin.

(1) If no corrosion is found, before further flight, install bolts and barrel nuts with applicable corrosion protection, in accordance with the service bulletin.

(2) If any corrosion is found, before further flight, remove the corrosion and do the actions specified in paragraph (c)(2)(i) or (c)(2)(ii) of this AD, as applicable, in accordance with the service bulletin.

(i) If corrosion rework is within tolerance limits, before further flight, perform the corrective actions in accordance with the service bulletin, as applicable.

(ii) If corrosion rework exceeds the tolerance limits and the service bulletin specifies to contact Boeing for repair: Before further flight, repair in accordance with a method approved by the Manager, Los Angeles Aircraft Certification Office (ACO), FAA; or in accordance with data meeting the type certification basis of the airplane approved by a Boeing Company Designated Engineering Representative (DER) who has been authorized by the Manager, Los Angeles ACO, to make such findings. For a repair method to be approved, the approval must specifically reference this AD.

Elevator Sector Pinch Bolt Inspection

(d) For Group 1 airplanes identified in paragraph 1.A.1. of the service bulletin: Perform a general visual inspection of the left- and right-hand elevator sector pinch bolts and associated holes for corrosion in accordance with the service bulletin.

(1) If no corrosion is found, before further flight, install bolts and barrel nuts with applicable corrosion protection in accordance with the service bulletin.

(2) If any corrosion is found, before further flight, remove the corrosion and do the actions specified in paragraph (d)(2)(i) or (d)(2)(ii) of this AD, as applicable, in accordance with the service bulletin.

(i) If corrosion rework is within tolerance limits, before further flight, perform the corrective actions in accordance with the service bulletin, as applicable.

(ii) If corrosion rework exceeds the tolerance limits and the service bulletin specifies to contact Boeing for repair: Before further flight, repair in accordance with a method approved by the Manager, Los Angeles ACO, FAA; or in accordance with data meeting the type certification basis of the airplane approved by a Boeing Company DER who has been authorized by the Manager, Los Angeles ACO, to make such findings. For a repair method to be approved, the approval must specifically reference this AD.

Alternative Methods of Compliance

(e) In accordance with 14 CFR 39.19, the Manager, Los Angeles Aircraft Certification Office (ACO), FAA, is authorized to approve alternative methods of compliance (AMOCs) for this AD.

Incorporation by Reference

(f) Unless otherwise specified in this AD, the actions shall be done in accordance with Boeing Service Bulletin 717-55-0003, dated June 18, 2002. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(g) This amendment becomes effective on May 19, 2004.

Issued in Renton, Washington, on April 6, 2004.
Kevin M. Mullin,
Acting Manager, Transport Airplane Directorate, Aircraft Certification Service.

[FR Doc. 04-8299 Filed 4-13-04; 8:45 am]

BILLING CODE 4910-13-P